DEPARTMENT OF ENERGY

Federal Energy Regulatory Commission

Combined Notice of Filings #2

Take notice that the Commission received the following electric rate filings:

Docket Numbers: ER16-2360-005; ER12-2037-011; ER12-2314-007; ER15-2129-004; ER15-2130-004; ER15-2131-004; ER16-2360-005.

Applicants: Great Western Wind Energy, LLC, Milo Wind Project, LLC, Roosevelt Wind Project, LLC, Slate Creek Wind Project, LLC, Spearville 3, LLC, Spinning Spur Wind LLC.

Description: Notice of Non-Material Change in Status of Great Western Wind Energy, LLC, et al.

Filed Date: 1/18/18.

Accession Number: 20180118-5095.

Comments Due: 5 p.m. ET 2/8/18.

Docket Numbers: ER17-2577-001.

Applicants: York Haven Power Company, LLC.

Description: Amended Response of York Haven Power Company, LLC to November 28, 2017 Request for Additional Information.

Filed Date: 1/12/18.

Accession Number: 20180112-5213.

Comments Due: 5 p.m. ET 2/2/18.

Docket Numbers: ER18-156-001.

Applicants: Southern California Edison Company.

Description: Tariff Amendment: SCE's Response to Deficiency re Amended LGIA Altagas Sonoran Energy SA No. 158 to be effective 10/26/2017.

Filed Date: 1/17/18.

Accession Number: 20180117-5099.

Comments Due: 5 p.m. ET 2/7/18.

Docket Numbers: ER18-671-000.

Applicants: Alabama Power Company.

Description: § 205(d) Rate Filing: Pulaski County Solar 2 (Hawkinsville 1 Solar) LGIA Filing to be effective 1/3/2018.

Filed Date: 1/18/18.

Accession Number: 20180118-5060.

Comments Due: 5 p.m. ET 2/8/18.

Docket Numbers: ER18-672-000.

Applicants: Unitil Energy Systems, Inc.

Description: Notice of Termination of Wheeling Agreement of Unitil Energy Systems, Inc.

Filed Date: 1/17/18.

Accession Number: 20180117-5139.

Comments Due: 5 p.m. ET 2/7/18.

Docket Numbers: ER18-673-000.

Applicants: Unitil Energy Systems, Inc.

Description: Notice of Termination of Wheeling Agreement of Unitil Energy Systems, Inc.

Filed Date: 1/17/18.

Accession Number: 20180117-5141.

Comments Due: 5 p.m. ET 2/7/18.

Docket Numbers: ER18-674-000.

Applicants: PacifiCorp.

Description: § 205(d) Rate Filing: Exelon NITSA (OR D.A.) Rev 1 to be effective 1/1/2018.

Filed Date: 1/18/18.

Accession Number: 20180118-5082.

Comments Due: 5 p.m. ET 2/8/18.

Docket Numbers: ER18-675-000.

Applicants: AES Ohio Generation, LLC.

Description: Tariff Cancellation: AES Ohio Generation Notice of Termination Rate Schedule 3 to be effective 2/20/2018.

Filed Date: 1/18/18.

Accession Number: 20180118-5103.

Comments Due: 5 p.m. ET 2/8/18.

Take notice that the Commission received the following electric securities filings:

Docket Numbers: ES18-21-000.

Applicants: Union Electric Company.

Description: Application under Federal Power Act Section 204 of Union Electric Company.

Filed Date: 1/18/18.

Accession Number: 20180118-5084.

Comments Due: 5 p.m. ET 2/8/18.

Take notice that the Commission received the following qualifying facility filings:

Docket Numbers: QF18-490-000.

Applicants: UE-00601MD.

Description: Form 556 of UD-00601MD.

Filed Date: 1/10/18.

Accession Number: 20180110-5214.

Comments Due: None Applicable.

Docket Numbers: QF18-501-000.

Applicants: Computer Avenue, LLC.

Description: Form 556 of Computer Avenue, LLC.

Filed Date: 1/18/18.

Accession Number: 20180118-5099.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 18, 2018.
Nathaniel J. Davis, Sr.,
Deputy Secretary.

[FR Doc. 2018-01248 Filed 1-23-18; 8:45 am]

BILLING CODE 6717-01-P